DEPARTMENT OF ENERGY

Federal Energy Regulatory Commission

[Project No. 2607-013]

Advantage Investment Group, LLC, Spencer Mountain Hydropower, LLC; Notice of Application for Transfer of License and Soliciting Comments, Motions To Intervene, and Protests

On January 20, 2016, Advantage Investment Group, LLC (transferor) and Spencer Mountain Hydropower, LLC (transferee) filed an application for transfer of license of the Spencer Mountain Hydroelectric Project No. 2607. The project is located on the Susquehanna River in York, Dauphin, and Lancaster counties, Pennsylvania. The project does not occupy federal lands.

The applicants seek Commission approval to transfer the license for the Spencer Mountain Hydroelectric Project from the transferor to the transferee.

Applicant Contact: For transferor: Mr. Boyce Falls, Manager, Advantage Investment Group, LLC, PO Box 458, Dallas, NC 28034, Phone: 704-363-5911, Email: bobbiefalls@aol.com . For transferee: Mr. Kevin Edwards, Manager, Spencer Mountain Hydropower, LLC, 1000 C&N Smith Mill Road, Stoneville, NC 27048, Phone: 336-589-6138, Email: kevin@pht1.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE., Washington, DC 20426. The first page of any filing should include docket number P-2607-013.

Dated: January 28, 2016.
Nathaniel J. Davis, Sr.,
Deputy Secretary.

[FR Doc. 2016-01958 Filed 2-2-16; 8:45 am]

BILLING CODE 6717-01-P